EQUAL EMPLOYMENT OPPORTUNITY COMMISSION

Elementary-Secondary Staff Information Report

AGENCY: Equal Employment Opportunity Commission (EEO).

ACTION: Notice of information collection under review; Elementary-Secondary Staff Information Report EEO-5.

SUMMARY: In accordance with section 3506(c)(2)(A) of the Paperwork Reduction Act of 1995, the Equal Employment Opportunity Commission (EEOC) announces that it intends to submit to the Office of Management and Budget (OMB) a request for a one-year extension of the existing collection as listed below.

DATES: Written comments on this notice must be submitted on or before June 3, 2002.

ADDRESSES: Comments should be submitted to Frances M. Hart, Executive Officer, Executive Secretariat, Equal Employment Opportunity Commission, 10th Floor, 1801 L Street, NW., Washington, DC 20507. As a convenience to commentators, the Executive Secretariat will accept comments transmitted by facsimile (“FAX”) machine. The telephone number of the FAX receiver is (202) 663-4114. (This is not a toll-free number.) Only comments of six or fewer pages will be accepted via FAX transmittal. This limitation is necessary to assure access to the equipment. Receipt of FAX transmittal will not be acknowledged, except that the sender may request confirmation of receipt by calling the Executive Secretariat staff at (202) 663-4070 (voice) or (202) 663-4074 (TDD). (These are not toll free telephone numbers.) Copies of comments submitted by the public will be available for review at the Commission's library, Room 6502, 1801 L Street, NW., Washington, DC 20507 between the hours of 9:30 a.m. and 5 p.m.

FOR FURTHER INFORMATION CONTACT: Joachim Neckere, Director, Program Research and Surveys Division, 1801 L Street NW. Room 9222, Washington, DC 20507, (202) 663-4958 (voice) or (202) 663-7063 (TDD).

SUPPLEMENTARY INFORMATION: The Commission solicits public comment to enable it to:

(1) Evaluate whether the proposed collection of information is necessary for the proper performance of the Commission's functions, including whether the information will have practical utility;

(2) Evaluate the accuracy of the Commission's estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information Collection

Collection Title: Elementary-Secondary Staff Information Report EEO-5.

OMB Number 0346-0003.

Frequency of Report: Biennial.

Type of Respondent: Public elementary and secondary school districts with 100 or more employees.

Description of Affected Public: State and Local Government.

Number of Responses: 5,000.

Reporting Hours: 12,000.

Federal Cost: $80,000.

Number of Forms: 1.

Abstract: Section 709(c) of Title VII of the Civil Rights Act of 1964, as amended, 42 U.S.C. 2000e-8(c), requires employers to make and keep records relevant to a determination of whether unlawful employment practices have been or are being committed and to make reports therefrom as required by the EEOC. Accordingly, the EEOC has issued regulations which set forth the reporting requirement for various kinds of employers. Elementary and secondary public school systems and districts have been required to submit EEO-5 reports EEOC since 1974 (biennially in even- numbered years since 1982). Since 1996 each school district or system has submitted all of the district data on a single form, EEOC Form 168A. The individual school form, EEOC Form 168B, was eliminated in 1996, greatly reducing the respondent burden and cost.

EEO-5 data are used by the EEOC to investigate charges of employment discrimination against elementary and secondary public school districts. The data are used to support EEOC decisions and conciliations, and for research. The data are shared with the Department of Education (Office for Civil Rights and the National Center for Education Statistics) and the Department of Justice. Pursuant to section 709(d) of Title VII of the Civil Rights Act of 1964, as amended, EEO-5 data are also shared with 86 State and Local Fair Employment Practices Agencies (FEPAs).

Burden Statement: the estimated number of respondents included in the annual EEO-5 survey is 5000 public elementary and secondary school districts. The number of responses per respondent is one report. The annual number of responses is approximately 5,000 and the total hours per response ranges from one (1) to five (5) hours. The estimated total number of response hours is 12,000 each time the survey is conducted (i.e., biennially.) Respondents are encouraged to report data on electronic media such as magnetic tapes and diskettes.

Dated: March 27, 2002.
For the Commission.
Cari M. Dominguez,
Chair.

[FR Doc. 02-7988 Filed 4-2-02; 8:45 am]

BILLING CODE 6750-01-M